DEPARTMENT OF ENERGY

Federal Energy Regulatory Commission

Combined Notice of Filings

Take notice that the Commission has received the following Natural Gas Pipeline Rate and Refund Report filings:

Filings Instituting Proceedings

Docket Number: PR18-31-000.

Applicants: Louisville Gas and Electric Company.

Description: Tariff filing per 284.123(b),(e)/: Revised Statement of Operating Conditions DDC to be effective 2/1/2018.

Filed Date: 2/20/18.

Accession Number: 201802205135.

Comments/Protests Due: 5 p.m. ET 3/13/18.

Docket Numbers: RP18-450-001.

Applicants: National Fuel Gas Supply Corporation.

Description: Tariff Amendment: Errata-Fuel Tracker (RP18-450-000) to be effective 4/1/2018.

Filed Date: 2/20/18.

Accession Number: 20180220-5231.

Comments Due: 5 p.m. ET 3/5/18.

Docket Numbers: RP18-451-000.

Applicants: Transcontinental Gas Pipe Line Company.

Description: § 4(d) Rate Filing: Garden State Expansion—Phase 2 Rate Filing to be effective 3/23/2018.

Filed Date: 2/20/18.

Accession Number: 20180220-5031.

Comments Due: 5 p.m. ET 3/5/18.

Docket Numbers: RP18-452-000.

Applicants: PG Pipeline LLC.

Description: Compliance filing Annual Adjustment of Fuel and Gas Loss Retention Percentage.

Filed Date: 2/20/18.

Accession Number: 20180220-5222.

Comments Due: 5 p.m. ET 3/5/18.

Docket Numbers: RP18-453-000.

Applicants: Rockies Express Pipeline LLC.

Description: § 4(d) Rate Filing: FL&U Electric Power Rate Adjustment 2018 to be effective 4/1/2018.

Filed Date: 2/20/18.

Accession Number: 20180220-5230.

Comments Due: 5 p.m. ET 3/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2018.
Nathaniel J. Davis, Sr.,
Deputy Secretary.

[FR Doc. 2018-04302 Filed 3-1-18; 8:45 am]

BILLING CODE 6717-01-P